NUCLEAR REGULATORY COMMISSION

Draft Regulatory Guide: Granting Extension of Comment Period

AGENCY: Nuclear Regulatory Commission.

ACTION: Notice of Granting of Request To Extend the Comment Period of Draft Regulatory Guide (DG)-1200, “An Approach for Determining the Technical Adequacy of Probabilistic Risk Assessment Results for Risk-Informed Activities.”

FOR FURTHER INFORMATION CONTACT: Mary Drouin, U.S. Nuclear Regulatory Commission, Washington, DC 20555-0001, telephone: (301) 415-6675 or e-mail to Mary.Drouin@nrc.gov.

SUPPLEMENTARY INFORMATION:

I. Introduction

The U.S. Nuclear Regulatory Commission (NRC) issued for public comment DG-1200, which was published in the Federal Register , 73 FR 35170, on June 20, 2008. DG-1200 is proposed Revision 2 of Regulatory Guide 1.200 in the agency's Regulatory Guide Series. This series has been developed to describe and make available to the public such information as methods that are acceptable to the NRC staff for implementing specific parts of the NRC's regulations, techniques that the staff uses in evaluating specific problems or postulated accidents, and data that the staff needs in its review of applications for permits and licenses.

II. Further Information

The NRC staff requested receipt of comments on DG-1200 by September 24, 2008, (including any implementation schedule) and its associated regulatory analysis or value/impact statement. By this action, the NRC staff is extending the comment period until December 31, 2008. Comments received after December 31, 2008, would be considered if practical to do so, but the NRC is able to ensure consideration only for comments received on or before this date. Although a time limit is given, comments and suggestions in connection with items for inclusion in guides currently being developed or improvements in all published guides are encouraged at any time.

III. Request To Extend the Comment Period

Basis for the Request

The NRC received the following extension request:

In a joint letter, the American Society of Mechanical Engineers (ASME) and the American Nuclear Society (ANS) requested that the public review and comment period on Draft Guide 1200 (proposed Revision 2 of Regulatory Guide [RG] 1.200) be extended to the end of December 2008 with a subsequent publication date of Revision 2 to RG 1.200 (“An Approach for Determining the Technical Adequacy of Probabilistic Risk Assessment Results for Risk-Informed Activities”) extended to the end of March 2009. The extension will allow Addendum A to the “Standard for Level 1/Large Early Release Frequency Probabilistic Risk Assessment for Nuclear Power Plant Applications” (ASME/ANS RA-S-2008) to be endorsed in Revision 2 to RG 1.200.

Response to Request

The request for an extension to the comment period is approved until December 31, 2008.

We agree that Addendum A is a needed improvement to the ASME/ANS standard RA-S-2008 and would result in a more effective and efficient implementation of both the standard and RG 1.200. Consequently, we are extending the public review and comment period to December 31, 2008, and the final publication of Revision 2 to RG 1.200 to March 31, 2009.

ASME and ANS have cooperated worked to develop this PRA standard in support of NRC's PRA quality initiative/plan in support of risk-informed regulation (SECY-04-0118, “Plan for the Implementation of the Commission's Phased Approach to Probabilistic Risk Assessment Quality,” dated July 13, 2004). This plan identified the various technical guidance documents (e.g. , standards) needed to support the various risk-informed activities.

Requests for technical information about DG-1200 may be directed to the NRC contact, Mary Drouin at (301) 415-6675 or e-mail to Mary.Drouin@nrc.gov.

Electronic copies of DG-1200 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML081200566.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 29 day of October, 2008.
For the Nuclear Regulatory Commission.
Andrea D. Valentin,
Chief, Regulatory Guide Development Branch, Division of Engineering, Office of Nuclear Regulatory Research.

[FR Doc. E8-26214 Filed 10-31-08; 8:45 am]

BILLING CODE 7590-01-P